DEPARTMENT OF ENERGY

Federal Energy Regulatory Commission

[Docket No. EL00-95-000]

San Diego Gas & Electric Co.; Notice of FERC Staff Participation in Conference Call Between California Independent System Operator Corporation and Market Participants

January 10, 2005.

The Federal Energy Regulatory Commission hereby gives notice that members of its staff may participate in the conference call between the California Independent System Operator Corporation and its stakeholders on January 13, 2005 to discuss issues pertaining to the status of the scheduled refund re-runs.

The discussion may address matters at issue in the following proceedings:

San Diego Gas & Electric Co. v. Sellers of Energy & Ancillary Serv., et al.Docket Nos., EL00-95-000, EL00-98-000, et al.

California Independent System Operator Corporation, Docket No. ER03-746-000, et al.

The conference call will begin at 12 noon PDT and will last for approximately 1 hour.

For more information contact Heidi Werntz, Office of General Counsel, Federal Energy Regulatory Commission at (202) 502-8910 or Heidi.Werntz@ferc.gov.

Magalie R. Salas,
Secretary.

[FR Doc. E5-181 Filed 1-18-05; 8:45 am]

BILLING CODE 6717-01-P